DEPARTMENT OF AGRICULTURE

U.S. Codex Office

Codex Alimentarius Commission: Meeting of the Codex Committee on Nutrition and Foods for Special Dietary Uses

AGENCY: U.S. Codex Office, USDA.

ACTION: Notice of public meeting and request for comments.

SUMMARY: The U.S Codex Office is sponsoring a public meeting on October 19, 2021. The objective of the public meeting is to provide information and receive public comments on agenda items and draft United States (U.S.) positions to be discussed at the 42nd Session of the Codex Committee on Nutrition and Foods for Special Dietary Uses (CCNFSDU) of the Codex Alimentarius Commission, which will take place virtually November 19-25, 2021, with report adoption on December 1, 2021. The U.S. Manager for Codex Alimentarius and the Acting Deputy Under Secretary for Trade and Foreign Agricultural Affairs recognize the importance of providing interested parties the opportunity to obtain background information on the 42nd Session of the CCNFSDU and to address items on the agenda.

DATES: The public meeting is scheduled for October 19, 2021, from 2:00-4:00PM EDT.

ADDRESSES: The public meeting will take place via Video Teleconference only. Documents related to the 42nd Session of the CCNFSDU are accessible via the internet at the following address: http://www.fao.org/fao-who-codexalimentarius/meetings/detail/en/?meeting=CCNFSDU&session=42.Dr. Douglas Balentine, U.S. Delegate to the 42nd Session of the CCNFSDU, invites U.S. interested parties to submit their comments electronically to the following email address: douglas.balentine@fda.hhs.gov.

Registration: Attendees must register to attend the public meeting by emailing uscodex@usda.gov by October 15, 2021. Early registration is encouraged.

For Further Information about the 42nd Session of the CCNFSDU, contact U.S. Delegate, Dr. Douglas Balentine, douglas.balentine@fda.hhs.gov or (240) 402-2373.

For Further Information about the public meeting Contact: U.S. Codex Office, 1400 Independence Avenue SW, Room 4861, South Agriculture Building, Washington, DC 20250. Phone (202) 720-7760, Fax: (202) 720-3157, Email: uscodex@usda.gov

SUPPLEMENTARY INFORMATION:

Background

Codex was established in 1963 by two United Nations organizations, the Food and Agriculture Organization (FAO)and the World Health Organization (WHO). Through adoption of food standards, codes of practice, and other guidelines developed by its committees, and by promoting their adoption and implementation by governments, Codex seeks to protect the health of consumers and ensure fair practices in the food trade.

The Terms of Reference of the Codex Committee on Nutrition and Foods for Special Dietary Uses (CCNFSDU) are:

(a) To study specific nutritional problems assigned to it by the Commission and advise the Commission on general nutrition issues;

(b) to draft general provisions, as appropriate, concerning the nutritional aspects of all foods;

(c) to develop standards, guidelines or related texts for foods for special dietary uses, in cooperation with other committees where necessary; and,

(d) to consider, amend if necessary, and endorse provisions on nutritional aspects proposed for inclusion Codex standards, guidelines and related texts.

The CCNFSDU is hosted by Germany. The United States attends the CCNFSDU as a member country of Codex.

Issues To Be Discussed at the Public Meeting

The following items on the Agenda for the 42nd Session of the CCNFSDU will be discussed during the public meeting:

• Adoption of the Agenda

• Matters Referred to the Committee by the Codex Alimentarius Commission and/or Other Subsidiary Bodies

• Matters of Interest Arising from FAO and WHO

• Review of the Standard for Follow-up Formula (CXS 156-1987)

• Draft Guideline for Ready-to-use Therapeutic Foods

• General Principles for the establishment of nutrient reference values-requirements (NRVs-R) for persons aged 6-36 months

• Other Business and Future Work

• Date and Place of the Next Session

Public Meeting

At the October 19, 2021, public meeting, draft U.S. positions on the agenda items will be described and discussed, and attendees will have the opportunity to pose questions and offer comments. Written comments may be offered at the meeting or sent to Dr. Douglas Balentine, U.S. Delegate for the 42nd Session of the CCNFSDU (see ADDRESSES). Written comments should state that they relate to activities of the 42nd Session of the CCNFSDU.

Additional Public Notification

Public awareness of all segments of rulemaking and policy development is important. Consequently, the U.S. Codex Office will announce this Federal Register publication on-line through the USDA web page located at: http://www.usda.gov/ codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington DC, on September 14, 2021.
Mary Frances Lowe,
U.S. Manager for Codex Alimentarius.

[FR Doc. 2021-20225 Filed 9-17-21; 8:45 am]

BILLING CODE P